DEPARTMENT OF AGRICULTURE

Agricultural Marketing Service

[Doc. No. AMS-FGIS-24-0029]

Opportunities for United States Grain Standards Act Designation in the Lower Northwest Texas Area; the Southeast Texas Area; the Keokuk, Iowa Area; and the Fargo, North Dakota Area

AGENCY: Agricultural Marketing Service, USDA.

ACTION: Notice; request for comments and applications for designation.

SUMMARY: The Agricultural Marketing Service (AMS) requests comments on the need for U.S. Grain Standards Act (USGSA) services in the newly formed Lower Northwest Texas and Southeast Texas geographic areas described below in the SUPPLEMENTARY INFORMATION section. AMS is also asking persons, entities, or governmental agencies interested in providing official inspection and weighing services, in those areas, to apply for designation. The designated USGSA authority for two official agencies, Keokuk Grain Inspection (Keokuk) and North Dakota Grain Inspection, Inc. (NDGI), will end on the prescribed dates listed in the SUPPLEMENTARY INFORMATION section below. AMS is requesting designation applications from interested persons, entities, or governmental agencies that would like to provide official inspection and weighing services for the areas presently served by these two agencies. In addition to this request for applications, AMS seeks comments on the quality of services provided by Keokuk and NDGI.

DATES: Comments expressing the need for and applications to provide USGSA services for the Lower Northwest Texas and Southeast Texas geographic must be received by August 19, 2024.

Applications and comments for the areas of designation terminating on March 31, 2025, currently serviced by Keokuk, must be received between November 1 and November 30, 2024.

Applications and comments for the areas of designation terminating on December 31, 2025, currently serviced by NDGI, must be received between August 1 and August 31, 2025.

ADDRESSES: Submit applications and comments concerning this Notice using the following methods:

To apply for USGSA Designation: New applicants (not currently designated) seeking designation or currently designated applicants seeking to apply for designation in a new geographic area can find detailed instructions at https://www.ams.usda.gov/sites/default/files/media/FGISApplyingforDesignation_NewApplicants.pdf. Applicants will need to obtain a Login.gov account, a MyFGIS number, and to request access to FGISonline Delegations/Designations and Export Registrations (DDR) prior to applying. Applicants are encouraged to begin the application process early to allow time for system authentication.

To submit Comments Regarding Currently Designated Official Agencies: Go to Regulations.gov (https://www.regulations.gov). Instructions for submitting and reading comments are detailed on the website. All comments must be submitted through the Federal e-rulemaking portal at https://www.regulations.gov and reference the document number and the date and page number of this issue of the Federal Register. All comments submitted in response to this notice will be included in the record and will be made available to the public. Please be advised that the identity of the individuals or entities submitting comments will be made public on the internet at the address provided above.

Read Applications and Comments: If you would like to view the applications submitted, please contact FGISQACD@usda.gov. All comments will be available for public viewing online at https://www.regulations.gov.

FOR FURTHER INFORMATION CONTACT: Jennifer Weiland, Grain Marketing Specialist, Telephone 202-720-8598; Email: Jennifer.j.weiland@usda.gov or FGISQACD@usda.gov.

SUPPLEMENTARY INFORMATION: Section 7(f) of the United States Grain Standards Act (USGSA) authorizes the Secretary to designate a qualified private entity or state governmental agency to provide official services in a specified area after determining the applicant is better able than any other applicant to provide such official services (7 U.S.C. 79(f)). A designated agency works under the supervision of the Federal Grain Inspection Service (FGIS) and are authorized to provide official inspection service and/or Class X or Class Y weighing services at locations other than export port locations. Under section 7(g) of the USGSA, designations of official agencies may be awarded for no longer than five years, unless terminated by the Secretary, and may be renewed according to the criteria and procedures prescribed in section 7(f) of the USGSA. See also 7 CFR part 800.196 for further information and guidance.

AMS encourages application submissions from traditionally underrepresented individuals, organizations, and businesses to reflect the diversity of this industry. The Agency welcomes submissions from qualified applicants, regardless of race, color, age, sex, sexual orientation, gender identity, national origin, religion, disability status, protected veteran status, or any other characteristic protected by law.

Description of New Geographic Areas

The following describes the new geographic areas about which AMS requests comments on the need for USGSA services and designation applications: Applicants may apply for all or part of the Lower Northwest Texas or Southeast Texas geographic areas.

Lower Northwest Texas: The Texas counties of Bailey, Cochran, Hockley, Parmer and sections of Deaf Smith and Lamb Counties. In Deaf Smith County: The area north and west of TX-214. In Lamb County: The area south of CR FM 37 to US-84, south of US-84 to CR FM 303, west of CR FM 303 to US-70, south of US-70.

Southeast Texas: The Texas counties of Aransas, Bee, Brazoria, Brooks, Calhoun, Cameron, Chambers, Colorado, Dimmit, Duval, Fort Bend, Galveston, Goliad, Harris, Hidalgo, Jackson, Jefferson, Jim Hogg, Jim Wells, Kennedy, Kleberg, La Salle, Live Oak, Matagorda, McMullen, Nueces, Refugio, San Patricio, Starr, Victoria, Waller, Webb, Wharton, Willacy, Zapata.

Existing Designation Application Locations

Below are the currently operating designated official agencies and the specific areas of operation for designation applications. These are listed in order of anticipated designation termination date.

Keokuk: Areas of designation includes parts of Illinois and Iowa. See the April 28, 2016, issue of the Federal Register (81 FR 17428) for descriptions of the areas open for designation.

North Dakota Grain Inspection Service, Inc. (NDGI): Areas of designation include parts of Illinois, Indiana, Michigan, Minnesota, North Dakota, and Ohio. Please see the November 10, 2022, issue of the Federal Register (87 FR 67855) reference to NDGI and the December 12, 2016, Federal Register (81 FR 89428) reference to Decatur, Indiana, for descriptions of the areas open for designation.

The designated USGSA authority for these two official agencies will end on the prescribed dates listed in the table below:

Official agency | Headquarters location and telephone | Designation end | Applications/comments open period
Keokuk Grain Inspection | Keokuk, IA, 319-524-6482 | 3/31/2025 | 11/01/2024-11/30/2024
North Dakota Grain Inspection Service, Inc. | Fargo, ND, 701-293-7420 | 12/31/2025 | 08/01/2025-08/31/2025

Designation Timelines

Interested persons, entities or governmental agencies may apply for designation to provide official services in the geographic area noted below under the provisions of section 7(f) of the USGSA and 7 CFR part 800.196. The designation time frame for Lower Northwest Texas and Southeast Texas territories will be determined as part of the application analysis. In the event multiple applicants are deemed qualified, AMS may issue an additional notice requesting public comment about the applicant(s) and their ability to provide quality official services.

Designations in the specified geographic areas for Keokuk will occur no sooner than April 1, 2025. Designations in the specified geographic areas for NDGI will occur no sooner than January 1, 2026. To apply for designation or to request more information on the geographic areas serviced by these official agencies contact FGISQACD@usda.gov.

Melissa Bailey,
Associate Administrator, Agricultural Marketing Service.

[FR Doc. 2024-15815 Filed 7-17-24; 8:45 am]

BILLING CODE P